DEPARTMENT OF ENERGY

Federal Energy Regulatory Commission

[Project No. 14701-000]

Empire State Hydro 301, LLC; Notice of Preliminary Permit Application Accepted for Filing and Soliciting Comments, Motions To Intervene, and Competing Applications

On August 20, 2015, Empire State Hydro 301, LLC filed an application for a preliminary permit, pursuant to section 4(f) of the Federal Power Act (FPA), proposing to study the feasibility of the Diamond Mills Hydroelectric Project (Diamond Mills Project or project) to be located at the existing Diamond Mills Dam on Esopus Creek in Saugerties, Ulster County, New York. The sole purpose of a preliminary permit, if issued, is to grant the permit holder priority to file a license application during the permit term. A preliminary permit does not authorize the permit holder to perform any land-disturbing activities or otherwise enter upon lands or waters owned by others without the owners' express permission.

The proposed project would consist of the following: (1) An 140-acre impoundment with a normal volume of 826 acre-feet; (2) an existing 350-foot-long, 32-foot-high concrete gravity dam with a spillway length of 340 feet; (3) an existing 30-foot-long, 9-foot-high auxiliary spillway; (4) an existing 10-foot-long, 6-foot-diameter penstock; (5) two new 750-kilowatt turbines; (6) a new 50-foot-long, 30-foot-wide powerhouse; (7) a new 300-foot-long, 12.7-kilovolt transmission line; and (8) appurtenant facilities. The estimated annual generation of the Diamond Mills Project would be 5,300 megawatt-hours.

Applicant Contact: Mr. Mark Boumansour, Empire State Hydro 301, LLC, c/o Gravity Renewables, Inc., 1401 Walnut Street, Suite 220, Boulder, CO 80302; phone: (303) 440-3378.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14701-000.

More information about this project, including a copy of the application, can be viewed or printed on the “eLibrary” link of the Commission's Web site at http://www.ferc.gov/docs-filing/elibrary.asp. Enter the docket number (P-14701) in the docket number field to access the document. For assistance, contact FERC Online Support.

Dated: October 15, 2015.
Kimberly D. Bose,
Secretary.

[FR Doc. 2015-26729 Filed 10-20-15; 8:45 am]

BILLING CODE 6717-01-P